DEPARTMENT OF COMMERCE

International Trade Administration

[C-570-971]

Multilayered Wood Flooring From the People's Republic of China: Notice of Amended Final Results of Countervailing Duty Administrative Review; 2018

AGENCY: Enforcement and Compliance, International Trade Administration, Department of Commerce.

SUMMARY: The Department of Commerce (Commerce) is amending its notice of final results of the 2018 administrative review of the countervailing duty (CVD) order on multilayered wood flooring (wood flooring) from the People's Republic of China (China).

DATES: Applicable December 1, 2021.

FOR FURTHER INFORMATION CONTACT: Dennis McClure, AD/CVD Operations, Office VIII, Enforcement and Compliance, International Trade Administration, U.S. Department of Commerce, 1401 Constitution Avenue NW, Washington, DC 20230; telephone: (202) 482-5973.

SUPPLEMENTARY INFORMATION:

Background

On October 20, 2021, Commerce issued the final results of the 2018 administrative review of the CVD order on wood flooring from China, which was subsequently published in the Federal Register.¹ On October 25, 2021, Dalian Shengyu Science and Technology Development Co., Ltd. (Dalian Shengyu) requested that Commerce correct a typographical error, stating that Commerce did not include the complete spelling of its name in the Final Results, which is necessary to ensure proper administration by U.S. Customs and Border Protection (CBP).² On October 25, 2021, mandatory respondent Jiangsu Senmao Bamboo and Wood Industry Co., Ltd. (Jiangsu Senmao) submitted a ministerial error allegation alleging that Commerce did not include the EU market price for pine plywood in its benchmark price for plywood as it did in the preliminary results.³ On October 27, 2021, the petitioner American Manufacturers of Multilayered Wood Flooring submitted ministerial allegations alleging that Commerce incorrectly calculated the fiberboard benchmark price for Jiangsu Senmao and should not have included domestic benchmark prices in the plywood benchmark calculation for both Jiangsu Senmao and the other mandatory respondent, Riverside Plywood Corporation and its cross-owned affiliate Baroque Timber Industries.⁴ The petitioner also alleged that Commerce should recalculate the non-selected respondent subsidy rate based on any corrected calculations. On November 1, 2021, Jiangsu Senmao replied to the petitioner's ministerial error allegations regarding the inclusion of domestic pricing data in the plywood benchmark calculation.⁵

¹ See Multilayered Wood Flooring From the People's Republic of China: Final Results and Partial Rescission of Countervailing Duty Administrative Review; 2018, 86 FR 59362 (October 27, 2021) (Final Results), and accompanying Issues and Decision Memorandum (Final Results IDM).

² See Dalian Shengyu's Letter, “Comments for the Final Results and Draft Liquidation Instructions,” dated October 25, 2021.

³ See Jiangsu Senmao's Letter, “Ministerial Error Comments,” dated October 25, 2021.

⁴ See Petitioner's Letter, “Ministerial Error Allegations,” dated October 27, 2021.

⁵ See Jiangsu Senmao's Letter, “Reply to Ministerial Error Allegations of American Manufacturers of Multilayered Wood Flooring,” dated November 1, 2021.

Scope of the Order

The product covered by the Order ⁶ is multilayered wood flooring from China. For a complete description of the scope of the Order, see the Issues and Decision Memorandum in the Final Results.⁷

⁶ See Multilayered Wood Flooring from the People's Republic of China: Countervailing Duty Order, 76 FR 76693 (December 8, 2011) (Order); see also Multilayered Wood Flooring from the People's Republic of China: Amended Antidumping and Countervailing Duty Orders, 77 FR 5484 (February 3, 2012) (Amended Order); and Multilayered Wood Flooring from the People's Republic of China: Final Clarification of the Scope of the Antidumping and Countervailing Duty Orders, 82 FR 27799 (June 19, 2017).

⁷ Final Results IDM at 4-5.

Ministerial Errors

Section 351.224(e) of Commerce's regulations provides that Commerce will analyze any comments received and, if appropriate, correct any ministerial error by amending the final results of the review. Section 751(h) of the Tariff Act of 1930, as amended (the Act), and 19 CFR 351.224(f) define a “ministerial error” as an error “in addition, subtraction, or other arithmetic function, clerical error resulting from inaccurate copying, duplication, or the like, and any other similar type of unintentional error which the Secretary considers ministerial.”

In light of the ministerial error comments, we reviewed the relevant record information and determined, in accordance with section 751(h) of the Act and 19 CFR 351.224(e) and (f), that we made the following ministerial errors in the Final Results: ⁸

⁸ See Memorandum, “Countervailing Duty Administrative Review of Multilayered Wood Flooring from the People's Republic of China: Allegations of Ministerial Errors in the Final Results,” dated concurrently with, and hereby adopted by, this notice.

(1) We incorrectly removed the EU market price for pine plywood from the plywood benchmark price calculation used in Jiangsu Senmao's benefit calculation for the plywood for less than adequate remuneration (LTAR) program. Therefore, we have corrected Jiangsu Senmao's plywood benefit calculation in these amended final results, and we will incorporate the Jiangsu Senmao's corrected total subsidy rate in the amended cash deposit instructions and liquidation instructions.

(2) We incorrectly calculated the total fiberboard benchmark price (inclusive of freight) used in Jiangsu Senmao's benefit calculation for fiberboard for LTAR program by adding benchmark prices denominated in Chinese renminbi and freight costs denominated in U.S. dollars without making the necessary currency conversions. Therefore, we have corrected Jiangsu Senmao's fiberboard benefit calculation in these amended final results, and we will incorporate Jiangsu Senmao's corrected total subsidy rate in the amended cash deposit instructions and liquidation instructions.

(3) Finally, we inadvertently misspelled Dalian Shengyu's name in the Final Results and draft cash deposit and liquidation instructions. Therefore, we have corrected the spelling of Dalian Shengyu's name in these amended final results and in the CBP cash deposit and liquidation instructions.

With regard to the petitioner's allegation that we erred in including domestic prices in the plywood benchmark price, we find no ministerial error because we made a methodological decision to include such prices in the plywood benchmark calculation.

Amended Final Results of Review

As a result of correcting the alleged ministerial errors noted above, we determine that the following countervailable subsidy rates exist for the POR.

Producer/exporter | Subsidy rate (percent)
Jiangsu Senmao Bamboo and Wood Industry Co., Ltd | 6.13
Non-Selected Companies Under Review ⁹ | 8.27

Assessment Rates

Pursuant to 19 CFR 351.212(b)(2), Commerce will determine, and CBP shall assess, countervailing duties on all appropriate entries of subject merchandise in accordance with the amended final results of this review, for the above-listed companies at the applicable ad valorem assessment rates listed. We intend to issue assessment instructions to CBP 35 days after the date of publication of these amended final results of review. If a timely summons is filed at the U.S. Court of International Trade, the assessment instructions will direct CBP not to liquidate relevant entries until the time for parties to file a request for a statutory injunction has expired (i.e., within 90 days of publication).

⁹ See the appendix to this notice.

Cash Deposit Instructions

In accordance with section 751(a)(2)(C) of the Act, Commerce also intends to instruct CBP to collect cash deposits of estimated countervailing duties in the amounts shown for each of the respective companies listed above on shipments of subject merchandise entered, or withdrawn from warehouse, for consumption on or after the date of publication of the final results of this administrative review. These cash deposit requirements, effective upon publication of these amended final results, shall remain in effect until further notice.

Administrative Protective Orders

This notice also serves as a reminder to parties subject to administrative protective order (APO) of their responsibility concerning the destruction of proprietary information disclosed under APO in accordance with 19 CFR 351.305(a)(3). Timely written notification of the return or destruction of APO materials or conversion to judicial protective order is hereby requested. Failure to comply with the regulations and terms of an APO is a sanctionable violation.

We are issuing and publishing these amended final results in accordance with sections 751(a)(1) and 777(i)(1) of the Act.

Dated: November 23, 2021.
James Maeder,
Deputy Assistant Secretary for Antidumping and Countervailing Duty Operations.

Appendix

Non-Selected Companies Under Review

1. Anhui Boya Bamboo & Wood Products Co., Ltd.

2. Anhui Longhua Bamboo Product Co., Ltd.

3. Anhui Yaolong Bamboo & Wood Products Co., Ltd.

4. Armstrong Wood Products (Kunshan) Co., Ltd.

5. Benxi Flooring Factory (General Partnership)

6. Benxi Wood Company

7. Changzhou Hawd Flooring Co., Ltd.

8. Dalian Huilong Wooden Products Co., Ltd.

9. Dalian Jaenmaken Wood Industry Co., Ltd.

10. Dalian Jiahong Wood Industry Co., Ltd.

11. Dalian Kemian Wood Industry Co., Ltd.

12. Dalian Penghong Floor Products Co., Ltd.

13. Dalian Qianqiu Wooden Product Co., Ltd.

14. Dalian Shengyu Science and Technology Development Co., Ltd.

15. Dalian Shumaike Floor Manufacturing Co., Ltd.

16. Dalian T-Boom Wood Products Co., Ltd.

17. Dongtai Fuan Universal Dynamics, LLC

18. Dun Hua Sen Tai Wood Co., Ltd.

19. Dunhua City Dexin Wood Industry Co., Ltd.

20. Dunhua City Hongyuan Wood Industry Co., Ltd.

21. Dunhua City Jisen Wood Industry Co., Ltd.

22. Dunhua Shengda Wood Industry Co., Ltd.

23. Fine Furniture (Shanghai) Limited

24. Fusong Jinlong Wooden Group Co., Ltd.

25. Fusong Jinqiu Wooden Product Co., Ltd.

26. Fusong Qianqiu Wooden Product Co., Ltd.

27. Guangzhou Homebon Timber Manufacturing Co., Ltd.

28. HaiLin LinJing Wooden Products Co., Ltd.

29. Hangzhou Hanje Tec Company Limited

30. Hangzhou Zhengtian Industrial Co., Ltd.

31. Hunchun Forest Wolf Wooden Industry Co., Ltd.

32. Hunchun Xingjia Wooden Flooring Inc.

33. Huzhou Chenghang Wood Co., Ltd.

34. Huzhou Fulinmen Imp. & Exp. Co., Ltd.

35. Huzhou Jesonwood Co., Ltd.

36. Huzhou Sunergy World Trade Co., Ltd.

37. Jiangsu Guyu International Trading Co., Ltd.

38. Jiangsu Keri Wood Co., Ltd.

39. Jiangsu Mingle Flooring Co., Ltd.

40. Jiangsu Simba Flooring Co., Ltd.

41. Jiashan HuiJiaLe Decoration Material Co., Ltd.

42. Jiaxing Hengtong Wood Co., Ltd.

43. Jilin Xinyuan Wooden Industry Co., Ltd.

44. Karly Wood Product Limited

45. Kember Flooring, Inc. (aka Kember Hardwood Flooring, Inc.)

46. Kemian Wood Industry (Kunshan) Co., Ltd.

47. Kingman Floors Co., Ltd.

48. Linyi Anying Wood Co., Ltd.

49. Linyi Youyou Wood Co., Ltd. (successor-in-interest to Shanghai Lizhong Wood Products Co., Ltd.) (aka, The Lizhong Wood Industry Limited Company of Shanghai)

50. Pinge Timber Manufacturing (Zhejiang) Co., Ltd.

51. Power Dekor Group Co. Ltd.

52. Scholar Home (Shanghai) New Material Co. Ltd.

53. Shanghaifloor Timber (Shanghai) Co., Ltd.

54. Sino-Maple (Jiangsu) Co., Ltd.

55. Suzhou Dongda Wood Co., Ltd.

56. Tongxiang Jisheng Import and Export Co., Ltd.

57. Xiamen Yung De Ornament Co., Ltd.

58. Xuzhou Shenghe Wood Co., Ltd.

59. Yekalon Industry, Inc.

60. Yihua Lifestyle Technology Co., Ltd.

61. Yingyi-Nature (Kunshan) Wood Industry Co., Ltd.

62. Zhejiang Dadongwu Greenhome Wood Co., Ltd.

63. Zhejiang Fuerjia Wooden Co., Ltd.

64. Zhejiang Jiechen Wood Industry Co., Ltd.

65. Zhejiang Longsen Lumbering Co., Ltd.

66. Zhejiang Shiyou Timber Co., Ltd.

67. Zhejiang Shuimojiangnan New Material Technology Co., Ltd.

68. Zhejiang Simite Wooden Co., Ltd.

[FR Doc. 2021-26024 Filed 11-30-21; 8:45 am]

BILLING CODE 3510-DS-P